DEPARTMENT OF HOUSING AND URBAN DEVELOPMENT

[Docket No. FR-4566-N-01]

Notice of Proposed Information Collection: Comment Request—Rural Housing and Economic Development

AGENCY: Office of the Assistant Secretary for Community Planning and Development, HUD.

ACTION: Notice.

SUMMARY: The proposed information collection requirement described below has been submitted to the Office of Management and Budget for review and approval, as required by the Paperwork Reduction Act. The Department is soliciting public comments on the subject proposal.

DATES: Comments Due Date: April 18, 2000.

ADDRESSES: Interested persons are invited to submit comments regarding this proposal. Comments should refer to the proposal by name and/or OMB Control Number should be sent to: Shelia E. Jones, Reports Liaison Officer, Department of Housing and Urban Development, 451 Seventh Street, SW, Room 7232, Washington, DC 20410.

FOR FURTHER INFORMATION CONTACT: Donner Buchet, (202) 708-2290, ext. 4664 (this is not a toll-free number) for copies of the proposed forms and other available documents.

SUPPLEMENTARY INFORMATION: This Notice informs the public that the Department of Housing and Urban Development (HUD) has submitted to OMB an information collection package with respect to a Notice of Funding Availability (NOFA) for the HUD Rural Housing and Economic Development program (RHED).

The Department of Veterans Affairs and Independent Agencies Appropriation Act, 2000 (Pub. L. 106-74, approved October 20, 1999) (FY 2000 HUD Appropriations Act) authorized and appropriated $25,000,000 to develop capacity at the state and local level for developing rural housing and economic development and to support innovative housing and economic development activities in rural areas.

The funds will be available as follows:

HUD will award up to $2.75 million to build capacity at the state, tribal, and local level for rural housing and economic development. This amount will go directly to local rural non-profits, community development corporations (CDCs), and Indian tribes.

HUD will award up to $19 million to Indian tribes, State Housing Finance Agencies (HFAs), state community and/or economic development agencies, local rural non-profits, and CDCs to support innovative housing and economic development activities in rural areas.

HUD will award up to $3 million in seed support for Indian tribes, local rural non-profits, and CDCs that are located in areas that have limited capacity for the development of innovative rural housing and economic development activities.

In addition to these funds which will be awarded in response to the NOFA, the remaining $0.25 million appropriated by the FY 2000 HUD Appropriations Act will be used to maintain a clearinghouse of ideas for innovative strategies for rural housing and economic development and revitalization.

This Notice is soliciting comments from members of the public and affecting agencies concerning the proposed collection of information to: (1) Evaluate whether proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

The Department has submitted the proposal for the collection of information, as described below, to OMB for review, as required by the Paperwork Reduction Act (44 U.S.C. Chapter 35):

Title of Proposal: NOFA: Rural Housing and Economic Development program.

OMB Control Number, if applicable: 2506-0169.

Description of the need for the information and proposed use: The information collection is essential so that HUD staff may determine the eligibility, qualifications, and capacity of applicants to carry out activities under the Rural Housing and Economic Development program. HUD will review the information provided by the applicants against the selection criteria contained in the NOFA in order to rate and rank the applications and select the best and most qualified applicants for funding. The selection criteria are: (1) Capacity and Organizational Experience of the applicant and relevant partners; (2) Need/Extent of the problem; (3) Soundness of Approach; (4) Leveraging of Resources; and (5) Comprehensiveness and Coordination.

Agency form numbers, if applicable: SF 424 (including a maximum 25 page application in response to the Factors for Award).

Members of the affected public: Eligible applicants include rural non-profits and Community Development Corporations, Indian tribes, State Housing Finance Agencies, and state community and/or economic development agencies.

Estimation of the total numbers of hours needed to prepare the information collection, including number of respondents, frequency of response, and hours of response: The estimated number of applicants is 700, with approximately 90 recipients. The proposed frequency of the response to the collection of information is one-time; the application needs to be submitted only one time.

Status of the proposed information collection: Reinstatement of a previously approved collection for which approval has expired.

Authority: The Paperwork Reduction Act of 1995, 44 U.S.C., Chapter 35, as amended.

Dated: February 12, 2000.
Cardell Cooper,
Assistant Secretary for Community Planning and Development.

[FR Doc. 00-3880 Filed 2-17-00; 8:45 am]

BILLING CODE 4210-29-M